DEPARTMENT OF COMMERCE

National Institute of Standards and Technology

Advisory Committee on Earthquake Hazards Reduction Meeting

AGENCY: National Institute of Standards and Technology, Department of Commerce.

ACTION: Notice of open meeting.

SUMMARY: The Advisory Committee on Earthquake Hazards Reduction (ACEHR or Committee), will meet Wednesday, December 17, 2008, from 8:30 a.m. to 5 p.m. and Thursday, December 18, 2008, from 8:30 a.m. to 4:30 p.m. The primary purpose of this meeting is to have an overview of the Pacific Earthquake Engineering Research (PEER) Center and have roundtable discussions on social sciences and lifelines. The agenda may change to accommodate Committee business. The final agenda will be posted on the NEHRP Web site at http://nehrp.gov/.

DATES: The ACEHR will meet on Wednesday, December 17, 2008, from 8:30 a.m. until 5 p.m. The meeting will continue on Thursday, December 18, 2008, from 8:30 a.m. until 4:30 p.m. The meeting will be open to the public.

ADDRESSES: The meeting will be held in the John A Martin Conference Room 542, Davis Hall, University of California, Berkeley, Berkeley, California. Please note admittance instructions under the SUPPLEMENTARY INFORMATION section of this notice.

FOR FURTHER INFORMATION CONTACT: Dr. Jack Hayes, National Earthquake Hazards Reduction Program Director, National Institute of Standards and Technology, 100 Bureau Drive, Mail Stop 8630, Gaithersburg, Maryland 20899-8630. Dr. Hayes' e-mail address is jack.hayes@nist.gov and his phone number is (301) 975-5640.

SUPPLEMENTARY INFORMATION: The Committee was established in accordance with the requirements of Section 103 of the NEHRP Reauthorization Act of 2004 (Pub. L. 108-360). The Committee is composed of 15 members appointed by the Director of NIST, who were selected for their technical expertise and experience, established records of distinguished professional service, and their knowledge of issues affecting the National Earthquake Hazards Reduction Program. In addition, the Chairperson of the U.S. Geological Survey (USGS) Scientific Earthquake Studies Advisory Committee (SESAC) serves in an ex officio capacity on the Committee. The Committee assesses:

• Trends and developments in the science and engineering of earthquake hazards reduction;

• The effectiveness of NEHRP in performing its statutory activities (improved design and construction methods and practices; land use controls and redevelopment; prediction techniques and early-warning systems; coordinated emergency preparedness plans; and public education and involvement programs);

• Any need to revise NEHRP; and

• The management, coordination, implementation, and activities of NEHRP.

Background information on NEHRP and the Advisory Committee is available at http://nehrp.gov/.

Pursuant to the Federal Advisory Committee Act, 5 U.S.C. app. 2, notice is hereby given that the Advisory Committee on Earthquake Hazards Reduction (ACEHR) will meet Wednesday, December 17, 2008, from 8:30 a.m. until 5 p.m. The meeting will continue on Thursday, December 18, 2008, from 8:30 a.m. until 4:30 p.m. The meeting will be held in the John A Martin Conference Room 542, Davis Hall, University of California, Berkeley, Berkeley, California. The primary purpose of this meeting is to have an overview of the Pacific Earthquake Engineering Research (PEER) Center and have roundtable discussions on social sciences and lifelines. The agenda may change to accommodate Committee business. The final agenda will be posted on the NEHRP Web site at http://nehrp.gov.

Individuals and representatives of organizations who would like to offer comments and suggestions related to the Committee's affairs are invited to request a place on the agenda. On December 18, 2008, approximately one-half hour will be reserved near the conclusion of the meeting for public comments, and speaking times will be assigned on a first-come, first-serve basis. The amount of time per speaker will be determined by the number of requests received, but is likely to be about 3 minutes each. Questions from the public will not be considered during this period. Speakers who wish to expand upon their oral statements, those who had wished to speak but could not be accommodated on the agenda, and those who were unable to attend in person are invited to submit written statements to the ACEHR, National Institute of Standards and Technology, 100 Bureau Drive, MS 8630, Gaithersburg, Maryland 20899-8630, via fax at (301) 975-5433, or electronically by e-mail to info@nehrp.gov.

All visitors to the Berkeley University campus are required to pre-register to be admitted. Anyone wishing to attend this meeting must register by close of business Wednesday, December 10, 2008, in order to attend. Please submit your name, time of arrival, e-mail address and phone number to Tina Faecke. Non-U.S. citizens must also submit their country of citizenship, title, employer/sponsor, and address. Ms. Faecke's e-mail address is tina.faecke@nist.gov and her phone number is (301) 975-5911.

Dated: November 20, 2008.
Patrick Gallagher,
Deputy Director.

[FR Doc. E8-28311 Filed 11-26-08; 8:45 am]

BILLING CODE 3510-13-P